DEPARTMENT OF COMMERCE

Technology Administration

National Medal of Technology Nomination Evaluation Committee (NMTNEC)

AGENCY: Technology Administration, U.S. Department of Commerce.

ACTION: Notice of Recruitment for Additional Members for NMTNEC.

SUMMARY: The Department of Commerce, Technology Administration (TA), requests nominations of individuals for appointment to the National Medal of Technology Nomination Evaluation Committee (NMTNEC). The Committee provides advice to the Secretary on the implementation of Public Law 96-480 (15 U.S.C. 3711) under the Federal Advisory Committee Act, 5 U.S.C. app. 2. Public Law 105-309; 15 U.S.C. 3711, Section 10, approved by the 105th Congress in 1998, added the National Technology Medal for Environmental Technology.

DATES: Please submit nominations within 30 days of the publication of this notice.

ADDRESSES: Submit nominations to the National Medal of Technology Program Office, Technology Administration, U. S. Department of Commerce, 1401 Constitution Avenue, NW., Room 4226, Washington, DC 20230. Materials may be faxed to 202-501-8153.

FOR FURTHER INFORMATION CONTACT: Mildred Porter, Director, 202-482-5572.

SUPPLEMENTARY INFORMATION: The National Medal of Technology Nomination Evaluation Committee will be rechartered for a period of two years to provide advice to the Secretary on the implementation of Public Law 96-480 (15 U.S.C. 3711) under the Federal Advisory Committee Act, 5 U.S.C. app. 2. The Committee serves as an advisory body to the Under Secretary. Members are responsible for reviewing nominations and making recommendations for the Nation's highest honor for technological innovation, awarded annually by the President of the United States. Members of the Committee have an understanding of, and experience in, developing and utilizing technological innovation and/or they are familiar with the education, training, employment and management of technological human resources.

Under the Federal Advisory Committee Act, membership in a committee constituted under the Act must be balanced. To achieve balance, the Department is seeking additional nominations of candidates from small, medium-sized, and large businesses or with special expertise in the following subsectors of the technology enterprise:

• Biomedical/Pharmaceutical/Health

• Chemistry, product development

• Human Resources/education/technology management

• Other: industry analysts (including manufacturing, environmental technology, transportation, telecommunications)

Typically, Committee members are present or former Chief Executive Officers, former winners of the National Medal of Technology; presidents or distinguished faculty of universities; or senior executives of non-profit organizations. As such, they not only offer the stature of their positions but also possess intimate knowledge of the forces determining future directions for their organizations and industries. The Committee as a whole is balanced in representing geographical, professional, and diversity interests. Nominees must be U. S. citizens, must be able to fully participate in meetings pertaining to the review and selection of finalists for the National Medal of Technology, and must uphold the confidential nature of an independent peer review and competitive selection process.

The Department of Commerce is committed to equal opportunity in the workplace and seeks a broad-based and diverse Committee membership.

Phillip J. Bond,
Under Secretary of Commerce for Technology, Technology Administration.

[FR Doc. 01-31839 Filed 12-26-01; 8:45 am]

BILLING CODE 3510-18-P